COURT SERVICES AND OFFENDER SUPERVISION AGENCY

Agency Information Collection Activities: Proposed Collection; Submission to OMB for Review and Approval for Collection of Qualitative Feedback on Agency Service Delivery; Public Comment Request

AGENCY: Pretrial Services Agency for the District of Columbia (PSA), CSOSA.

ACTION: 30 Day Notice and request for comments.

SUMMARY: This notice announces the intention of the Pretrial Services Agency for the District of Columbia to request that the Office of Management and Budget (OMB) approve the proposed information collection project: “Pretrial Services Agency for the District of Columbia 2013 Judicial Survey.” In accordance with the Paperwork Reduction Act of 1995 (44 U.S.C. 3501-3521), this notice announces PSA's intent to submit this collection to OMB for approval. PSA invites the public to comment on this proposed information collection.

Notice and request for public comment on this collection was published in the Federal Register on April 23, 2013 at 78 FR 23918. The Agency did not receive any comments in response to the 60-day notice published in the Federal Register.

DATES: Consideration will be given to all comments received by August 22, 2013.

ADDRESSES: You may submit written comments to, the Office of Information and Regulatory Affairs, Office of Management and Budget, Attn: CSOSA Desk Officer and to: oira_submission@omb.eop.gov. A copy of any comments should be sent to: Rorey Smith, Deputy General Counsel and Chief Privacy Officer, Office of General Counsel, Court Services and Offender Supervision Agency, 633 Indiana Avenue NW, Room 1390, Washington, DC 20004 or to Rorey.Smith@csosa.gov. All comments should reference the title of the collection, “Collection of Qualitative Feedback on Agency Service Delivery.” Comments submitted in response to this notice may be made available to the public. For this reason, please do not include in your comments information of a confidential nature, such as sensitive personal information or proprietary information. If you send an email comment, your email address will be automatically captured and included as part of the comment that is placed in the public docket and may be made available on the Internet. Please note that responses to this public comment request containing any routine notice about the confidentiality of the communication will be treated as public comments that may be made available to the public notwithstanding the inclusion of the routine notice.

Request for Comments: Comments submitted in response to this notice will be summarized and/or included in the request for OMB approval. Comments are invited on: (a) Whether the collection of information is necessary for the proper performance of the functions of the agency, including whether the information shall have practical utility; (b) the accuracy of the agency's estimate of the burden of the collection of information including the validity of the methodology and the assumptions used; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

FOR FURTHER INFORMATION CONTACT: Rorey Smith, Deputy General Counsel and Chief Privacy Officer, Office of General Counsel, Court Services and Offender Supervision Agency, 633 Indiana Avenue NW, Room 1380, Washington, DC 20004, (202) 220-5797 or to Rorey.Smith@csosa.gov.

For content support: Diane Bradley, Assistant General Counsel, Office of General Counsel, Court Services and Offender Supervision Agency, 633 Indiana Avenue NW, Room 1375, Washington, DC 20004, (202) 220-5364 or to Diane.Bradley@csosa.gov.

SUPPLEMENTARY INFORMATION: Title: Pretrial Services Agency for the District of Columbia 2013 Judicial Survey.

Abstract: The proposed information collection activity provides a means to garner qualitative customer and stakeholder feedback in an efficient, timely manner, in accordance with the Administration's commitment to improving service delivery. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

The proposed survey will assess judicial satisfaction with PSA's responsiveness, staff professionalism, the quality and benefit of PSA reports, PSA's supervision of higher risk defendants (including those with mental health and substance dependence issues), and the provision of treatment services. The judicial survey will represent the only qualitative or quantitative measure of this important metric. PSA will use the collected information to support several organizational improvements including: enhancements to PSA's supervision of medium to higher-risk pretrial defendants; improve communications with the court regarding defendant compliance and noncompliance with supervision requirements; provide better performance ratings of Senior Executive Services (SES) staff; and creation of a qualitative performance measure to gauge overall judicial satisfaction under PSA's “partnerships” strategic objective. This type of collection for qualitative information will be used for quantitative information collections that are designed to yield reliable actionable results, such as monitoring trends over time or documenting program performance.

As a general matter, information collections will not result in any new system of records containing privacy information and will not ask questions of a sensitive nature, such as sexual behavior and attitudes, religious beliefs, and other matters that are commonly considered private.

This evaluation study addresses PSA's need for a report to inform strategic planning for dissemination and program activities to targeted 60 DC Superior Court and District Court judicial officers as survey participants—the universe of judicial officers hearing criminal matters in both courts and those with bail setting duties.

The survey is intended to assess judicial officers' perceptions and attitudes through a structured survey to measure judicial perceptions and attitudes about specific elements of Agency performance. Given the qualitative nature of these data, PSA will use a customer satisfaction rank order response of customer satisfaction questionnaire format for its survey. These customer satisfaction questionnaires are a proven method to solicit and record critical input from primary customers and partner agencies for PSA to address customer-related issues more competently and resolve issues more quickly.

The outcome will best provide a detailed analysis of customer feedback and may also provide “customer intelligence” that can be used as a roadmap to spur innovation efforts, research and development and new programs and initiatives. The outcome will also include a recommendation for strategic planning for future efforts which will engage and develop information and programming for DC judicial official audience. Survey results will not be published independently, but will be part of PSA's Performance Budget submitted to the United States Congress every February and used as a metric for performance appraisals for SES staff, submitted in September of each year.

Method of Collection

This survey will be conducted by PSA through its Office of Strategic Development. To achieve the goals that PSA hopes to obtain through its judicial survey, the following data collections will be implemented:

(1) On-line instrument: All responses to the survey will be solicited, collected and recorded via a web-based survey instrument. This method will increase participants' ease in completing the survey and returning results to PSA. Automatically-logged results also ensure greater quality control of entered data and easier recording and analysis of results.

(2) Rank-ordered responses: Most survey questions ask respondents to rank-order responses on a standard five-item Likert-scale, for example, “Very Dissatisfied” to “Very Satisfied.” The remaining questions are value neutral and open ended and allow respondents to give opinions on how PSA can improve specific functions.

(3) Limited question set: The survey consists of 15 questions, making it relatively easy to understand, navigate and complete.

(4) Anonymity: Survey results are anonymous, although respondents have the choice to identify themselves.

Since the survey targets all judicial officers that have direct exposure and knowledge of PSA services and supervision, there are no anticipated issues with sample selection, stratification or estimation procedures.

Described below is an overview of the information collection, the projected average annual estimates of the total number of respondents and responses, and the amount of time estimates:

Current Actions: New collection of information.

Type of Review: New collection.

Affected Public: DC Superior Court and District Court Judges.

Average expected annual number of collection activities: 2.

Respondents: 60.

Number of responses per respondent: 15.

Annual responses: 900.

Frequency of Response: Once per request.

Average minutes per response: 10-15.

Total burden hours associated with this collection: 15.

The Agency's estimated annualized cost burden associated with the respondents' time to participate in this research is $1,200. The total and annualized cost to the federal government for the questionnaire development, administration, analysis, and study management for conducting this research is $150.

An agency may not conduct or sponsor, and a person is not required to respond to, a collection of information unless it displays a current and valid Office of Management and Budget control number.

Dated: July 18, 2013.
Rorey Smith,
Deputy General Counsel, for the Court Services and Offender Supervision Agency.

[FR Doc. 2013-17643 Filed 7-22-13; 8:45 am]

BILLING CODE 3129-04-P